DEPARTMENT OF HOMELAND SECURITY

Federal Emergency Management Agency

[Docket ID FEMA-2025-0002; Internal Agency Docket No. FEMA-B-2530]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before October 7, 2025.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2530, to David Bascom, Acting Director, Engineering and Modeling Division, Risk Analysis, Planning & Information Directorate, FEMA, 400 C Street SW, Washington, DC 20472, or (email) david.bascom@fema.dhs.gov.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Elizabeth Asche,
Assistant Administrator, Federal Insurance Directorate, Resilience, Federal Emergency Management Agency, Department of Homeland Security.

Community | Community map repository address
Wayne County, New York (All Jurisdictions)
Project: 20-02-0014S Preliminary Date: January 31, 2025
Town of Arcadia | Arcadia Town Hall, 201 Frey Street, Newark, NY 14513.
Town of Butler | Butler Town Hall, 4576 Butler Center Road, Wolcott, NY 14590.
Town of Galen | Galen Town Hall, 6 South Park Street, Clyde, NY 14433.
Town of Huron | Town Hall, 10880 Lummisville Road, Huron, NY 14590.
Town of Lyons | Town Hall, 43 Phelps Street, Lyons, NY 14489.
Town of Macedon | Town Hall, 32 Main Street, Macedon, NY 14502.
Town of Marion | Town Hall, 3823 North Main Street, Marion, NY 14505.
Town of Ontario | Town Hall, 1850 Ridge Road, Ontario, NY 14519.
Town of Palmyra | Town Hall, 1180 Canandaigua Road, Palmyra, NY 14522.
Town of Rose | Rose Town Hall, 5074 North Main Street, North Rose, NY 14516.
Town of Savannah | Town Hall, 1564 North Main Street, Savannah, NY 13146.
Town of Sodus | Town Hall, 14-16 Mill Street, Sodus, NY 14551.
Town of Walworth | Town Hall, 3600 Lorraine Drive, Walworth, NY 14568.
Town of Williamson | Town Hall, 6380 Route 21, Suite 2, Williamson, NY 14589.
Town of Wolcott | Town Hall, 6070 Lake Avenue, Wolcott, NY 14590.
Village of Clyde | Village Office, 6 South Park Street, Clyde, NY 14433.
Village of Newark | Village Hall, 100 East Miller Street, Newark, NY 14513.
Village of Palmyra | Village Hall, 144 East Main Street, Palmyra, NY 14522.
Village of Red Creek | Village Hall, 6815 Church Street, Red Creek, NY 13143.
Village of Sodus Point | Village Hall, 8356 Bay Street, Sodus Point, NY 14555.
Village of Wolcott | Village Office, 6015 New Hartford Street, Wolcott, NY 14590.
Carroll County, Maryland and Incorporated Areas
Project: 23-03-0030S Preliminary Date: May 31, 2024 and December 12, 2024
Town of Mount Airy | Town Hall, 110 South Main Street, Mount Airy, MD 21771.
Town of Sykesville | Town House, 7547 Main Street, Sykesville, MD 21784.
Town of Union Bridge | Town Hall, 104 West Locust Street, Union Bridge, MD 21791.
Unincorporated Areas of Carroll County | Carroll County Government, 225 North Center Street, Westminster, MD 21157.
Jefferson County, West Virginia and Incorporated Areas
Project: 21-03-0006S Preliminary Date: September 24, 2024
City of Charles Town | Charles Town City Hall, 101 East Washington Street, Charles Town, WV 25414.
City of Ranson | Ranson City Hall, 312 S Mildred St., Ranson, WV 25438.
Town of Bolivar | Bolivar Town Hall, 60 Panama Street, Harpers Ferry, WV 25425.
Town of Harpers Ferry | Harpers Ferry Town Hall, 1000 West Washington Street, Harpers Ferry, WV 25425.
Town of Shepherdstown | Corporation of Shepherdstown, 104 North King Street, Shepherdstown, WV 25443.
Unincorporated Areas of Jefferson County | Jefferson County Office of Code Enforcement & Floodplain Management, 116 East Washington Street, Suite 100, Charles Town, WV 25414.
Richland County, Wisconsin and Incorporated Areas
Project: 17-05-0965S Preliminary Date: January 31, 2025
Unincorporated Areas of Richland County | Zoning Administrator Office, 181 West Seminary Street, Room 309, Richland Center, WI 53581.
Village of Viola | Village Hall, 106 West Wisconsin Street, Viola, WI 54664.

[FR Doc. 2025-12735 Filed 7-8-25; 8:45 am]

BILLING CODE 9110-12-P